OFFICE OF PERSONNEL MANAGEMENT

Proposed Collection; Comment Request for Review of an Expiring Information Collection Form: OPM-1386B

AGENCY: Office of Personnel Management.

ACTION: Notice.

SUMMARY: In accordance with the Paperwork Reduction Act of 1995 (Pub. L. 104-13, May 22, 1995), this notice announces the Office of Personnel Management (OPM) intends to submit to the Office of Management and Budget a request for review of an expiring information collection form. OPM-1386B, Applicant Race and National Origin Questionnaire, is used to gather information concerning the race and national origin of applicants for employment under the Outstanding Scholar provision of the Luevano Consent Decree, 93 F.R.D. 68 (1981).

New standards for collecting race and ethnicity are defined in the Federal Register notice, “Revisions to the Standards for the Classification of Federal Data on Race and Ethnicity,” 62 FR 58782 (1997). The standards change the classification of Federal data on race and ethnicity contained in OMB Directive 15, Race and Ethnic Standards for Federal Statistics and Administrative Reporting. This classification provides a minimum standard for maintaining, collecting, and presenting data on race and ethnicity. The standards have five categories for race and two categories for ethnicity. They also allow individuals to select more than one race, based on self-identification.

Approximately 100,000 OPM-1386B forms are completed annually. Each form takes approximately 5 minutes to complete. The annual estimated burden is 8,333 hours.

Comments are particularly invited on: Whether this collection of information is necessary for the proper performance of functions of the Office of Personnel Management and whether it will have practical utility; whether our estimate of the public burden of this collection of information is accurate and based on valid assumptions and methodology; and ways in which we can minimize the burden of the collection of information on respondents, through the use of appropriate technological collection techniques or other forms of information technology.

For copies of this proposal, contact Mary Beth Smith-Toomey by telephone (202) 606-8358, or by e-mail MaryBeth.Smith-Toomey@opm.gov.

DATES: Comments on this proposal should be received within 60 calendar days from the date of this publication.

ADDRESSES: Send or deliver comments to: Daniel Fusco, Manager, Recruiting, Examining and Assessment Group, U.S. Office of Personnel Management, 1900 E Street, NW., Room 6500, Washington, DC 20415.

U.S. Office of Personnel Management.
Linda M. Springer,
Director.

[FR Doc. 05-22741 Filed 11-15-05; 8:45 am]

BILLING CODE 6325-39-P